DEPARTMENT OF DEFENSE

Department of the Army

Preparation of a Programmatic Environmental Impact Statement (PEIS) for the Growth, Realignment, and Stationing of Army Aviation Assets

AGENCY: Department of the Army, DoD.

ACTION: Notice of Intent.

SUMMARY: The Army announces its intent to prepare a PEIS for the proposed growth, realignment, and stationing of new and existing Army aviation assets. The proposed action includes the consolidation and reorganization of existing aviation units, and the establishment of one or more Combat Aviation Brigades (CABs). The proposed action will increase the availability of rotary wing assets to meet current and future national security requirements and will allow the Army better to organize existing aviation assets to promote more effective training and force management. The PEIS will evaluate the environmental impacts associated with the proposed action, which includes the construction and renovation of garrison facilities and additional training needed to support the establishment and realignment of aviation units.

The Army is considering the following alternatives in the PEIS: (1) Realign and consolidate existing aviation elements of up to a full CAB at Fort Carson (CO) or Joint Base Lewis-McChord (WA); (2) implement those actions discussed in Alternative 1; in addition, establish a new CAB and station it at Fort Carson or Joint Base Lewis-McChord; and, (3) No-Action Alternative that would retain the Army aviation force structure at its current levels, configurations, and locations. No more than one additional CAB would be assigned to either of the stationing locations being considered. As part of Alternatives 1 and 2, aviation units would conduct training on existing training land at either the Yakima Training Center (YTC) (WA) or the Pinon Canyon Maneuver Site (PCMS) (CO) in order to maintain training proficiency and support integrated training with ground units. Land acquisition is not being considered as part of this action.

Fort Carson and Joint Base Lewis-McChord are the only stationing alternatives that meet all of the Army's stationing requirements for new CAB stationing. These locations provide an existing runway and airfield, provide adequate maneuver and airspace for CAB operations, and are equipped with existing training ranges that can support CAB training. Each location is currently the home station of three or more ground maneuver Brigade Combat Teams (BCTs), which allows the Army to maximize integrated air/ground training. Joint Base Lewis-McChord and Fort Carson are the only major installations that have three or more BCTs but no CAB dedicated to provide aviation support for training. Additionally, Joint Base Lewis-McChord has many of the existing garrison facilities to accommodate CAB units while Fort Carson has space available to construct additional CAB facilities.

ADDRESSES: Written comments may be sent to: Public Affairs Office, U.S. Army Environmental Command, Attention: IMPA-AE, 5179 Hoadley Road, Aberdeen Proving Ground, MD 21010-5401; fax (410) 436-1693; or e-mail at APGR-USAECNEPA@conus.army.mil.

FOR FURTHER INFORMATION CONTACT: Public Affairs Office at (410) 436-2556.

SUPPLEMENTARY INFORMATION: A CAB consists of approximately 120 helicopters, 600 wheeled vehicles, and 2,700 Soldiers. The CAB is organized into five battalions and a headquarters unit. CAB units include combat, reconnaissance, and logistics support aircraft.

The National Environmental Policy Act (NEPA) of 1969 (42 U.S.C. et seq.) and Federal Regulations (40 CFR part 1500 et seq. and 32 CFR part 651) require the Army to consider the environmental impact of its actions and alternatives and to solicit the views of the public in order to make a final decision on how to proceed.

The PEIS will assess, consider, and compare the direct, indirect, and cumulative environmental effects of proposed CAB growth and realignment for each alternative. The primary environmental issues to be analyzed include (but are not limited to) impacts to air quality, soil, airspace, cultural resources, natural resources, noise. In addition, the Army will consider those issues identified by the public and other organizations as part of the process.

Predicted environmental impacts associated with the implementation of the proposed action at Fort Carson and Joint Base Lewis-McChord will be analyzed to include increases in aviation activity, potential for wildlife disturbance, as well as additional impacts to soils, biological resources, surface water, and vegetation. Additional vehicle traffic and growth in school population associated with an increase in Soldier populations will also be analyzed. At YTC, there is increased potential for vegetation and habitat degradation associated with aviation training. At PCMS, cumulative impacts to soils are predicted to be manageable with current dust control mitigation techniques.

Members of the public, including native communities and federally recognized Native American Tribes, and federal, state, and local agencies are invited to submit written comments on environmental issues, concerns and opportunities to be analyzed in the PEIS. Written comments will be accepted for 30 days following publication of the Notice of Intent in the Federal Register.

Dated: September 2, 2010.
Hershell E. Wolfe,
Acting Deputy Assistant Secretary of the Army (Environment, Safety, and Occupational Health).

[FR Doc. 2010-22658 Filed 9-9-10; 8:45 am]

BILLING CODE 3710-08-P